DEPARTMENT OF JUSTICE

Antitrust Division

Notice Pursuant to the National Cooperative Research and Production Act of 1993—Medical Technology Enterprise Consortium

Notice is hereby given that, on August 19, 2016, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, A.G.M. Biological Products Development LTD, Nes Ziona, ISRAEL; AbViro, LLC, Bethesda, MD; Actuated Medical, Inc., Bellefonte, MD; applied Medical Device Institute (aMDI) GVSU, Grand Rapids, MI; Aptus, LLC, Clemson, SC; ARMR Systems, Snellville, GA; Axonova Medical, LLC, Philadelphia, PA; Battelle Memorial Institute, Columbus, OH; BioBridge Global, San Antonio, TX; Brown University, Providence, RI; Combat Wounded Veteran Challenge, Inc., Saint Petersburg, FL; DigitalDerm, Inc., Columbia, SC; GeoVax, Inc., Smyrna, GA; Health Research, Inc./Wadsworth Center, Menands, NY; IDIQ Inc., Fallbrook, CA; INCELL Corporation, LLC, San Antonio, TX; Indiana University, Indianapolis, IN; KIYATEC, Inc., Greenville, SC; Longeveron, LLC, Miami, FL; Lynntech, Inc., College Station, TX; MetArmor, Inc., Glen Garden, NJ; NGT-VC 2021 Limited Partnership (NGT3), Nazareth, ISRAEL; Northwestern University, Evanston, IL; Organovo, Inc., San Diego, CA; Propagenix, Inc., Rockville, MD; Rhythmlink International, LLC, Columbia, SC; Scientific & Biomedical Microsystems, LLC (SBM), Glen Burnie, MD; Strategic Marketing Innovations, Inc., Washington, DC; Tonix Pharmaceuticals, Inc., New York, NY; University of California-Irvine, Irvine, CA; University of Cincinnati, Department of Surgery, Cincinnati, OH; University of Maryland-Baltimore, Baltimore, MD; and Virtech Bio, LLC, New York, NY, have been added as parties to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on March 15, 2016. A notice was published in the Federal Register pursuant to Section 6(b) of the Act on April 14, 2016 (81 FR 22119).

Patricia A. Brink,
Director of Civil Enforcement, Antitrust Division.

[FR Doc. 2016-22586 Filed 9-19-16; 8:45 am]

BILLING CODE P